DEPARTMENT OF COMMERCE

National Oceanic and Atmospheric Administration

50 CFR Part 660

[Docket No. 250324-0046]

RIN 0648-BN26

Fisheries Off West Coast States; West Coast Salmon Fisheries; Federal Salmon Regulations for Overfished Species Rebuilding Plans

AGENCY: National Marine Fisheries Service (NMFS), National Oceanic and Atmospheric Administration (NOAA), Department of Commerce.

ACTION: Proposed rule; request for comments.

SUMMARY: NMFS proposes revisions to regulations that implement the Pacific Fishery Management Council's (Council) Pacific Coast Salmon Fishery Management Plan (FMP). This proposed action would remove the rebuilding plans for Queets River natural coho salmon (Queets coho salmon) and Strait of Juan de Fuca natural coho salmon (JDF coho salmon) from regulation, as these stocks have been rebuilt and are no longer required to be managed under a rebuilding plan.

DATES: Comments on this proposed rule must be received on or before April 28, 2025.

ADDRESSES: A plain language summary of this proposed rule is available at: https://www.regulations.gov/docket/NOAA-NMFS-2024-0112. You may submit comments on this document, identified by NOAA-NMFS-2024-0112, by the following method:

• Electronic Submission: Submit all electronic public comments via the Federal e-Rulemaking Portal. Visit https://www.regulations.gov and type NOAA-NMFS-2024-0112 in the Search box. Click on the “Comment” icon, complete the required fields, and enter or attach your comments.

Instructions: Comments sent by any other method, to any other address or individual, or received after the end of the comment period, may not be considered by NMFS. All comments received are a part of the public record and will generally be posted for public viewing at: https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Anna Heeter, Fishery Management Specialist, at (971) 361-8895 or Anna.Heeter@noaa.gov.

SUPPLEMENTARY INFORMATION: Regulations at 50 CFR part 660, subpart H implement the management of West Coast salmon fisheries under the FMP in the exclusive economic zone (3 to 200 nautical miles (5.6 to 370.4 kilometers)) off the coasts of the States of Washington, Oregon, and California.

In 2018, NMFS determined that the Queets coho salmon and JDF coho salmon stocks were overfished under the Magnuson-Stevens Fishery and Conservation Management Act (MSA) (Letter from Barry A. Thom, NMFS West Coast Regional Administrator, to Phil Anderson, Pacific Fishery Management Council Chair, dated June 18, 2018). The MSA requires Councils to develop and implement a rebuilding plan within 2 years of being notified by NMFS that a stock is overfished (16 U.S.C. 1854(e)(3)). The Council transmitted its recommended rebuilding plans to NMFS on October 17, 2019, which were similar to the existing management frameworks, to rebuild Queets coho salmon and JDF coho salmon (Letter from Charles A. Tracy, Pacific Fishery Management Council Executive Director, to Barry A. Thom, NMFS West Coast Regional Administrator, dated October 17, 2019).

The Council determined that the recommended rebuilding plans met the MSA requirement to rebuild the stocks as quickly as possible, taking into account the status and biology of any overfished stock and the needs of fishing communities (50 CFR 600.310(j)(3)(i)). NMFS approved and implemented the Council's recommended rebuilding plans for the Queets coho salmon and JDF coho salmon stocks through a final rule (86 FR 9301, March 15, 2021).

In 2024, NMFS determined that Queets coho salmon and JDF coho salmon met the criteria in the FMP for being rebuilt and notified the Council (Letter from Jennifer Quan, NMFS West Coast Regional Administrator, to Merrick Burden, Pacific Fishery Management Council Executive Director, dated August 1, 2024). A stock is rebuilt when the 3-year geometric mean spawning escapement exceeds the level associated with the maximum sustainable yield (SMSY).

When Queets coho salmon was determined to be overfished, the 3-year geometric mean was 4,291 (2014 to 2016). The most recent 3-year geometric mean of the spawning escapement reported for this stock (2020 to 2022) is 6,624, which exceeds the stock's spawning escapement required to achieve SMSY 5,800 spawners. When JDF coho salmon was determined to be overfished, the 3-year geometric mean was 6,842 (2014 to 62016). The most recent 3-year geometric mean of the spawning escapement reported for this stock (2020 to 2022) is 14,461, which exceeds the stock's spawning escapement required to achieve maximum sustainable yield (SMSY), 11,000 spawners.

As these stocks are rebuilt, they are no longer required to be managed under rebuilding plans and the Queets coho salmon and JDF coho salmon rebuilding plans should be removed from regulation to avoid confusion regarding the status of these stocks. Additionally, removing these rebuilding plans from regulation will avoid confusion should NMFS make a future determination that these stocks are overfished again, in which case the MSA requires the Council to prepare and implement a rebuilding plan within 2 years of that determination (50 CFR 600.310(j)(2)(ii)). Leaving the current rebuilding plans in regulation could cause confusion as they might be misperceived as being the applicable management measures for Queets coho salmon and JDF coho salmon, which is not the intention of the Council nor of NMFS. Therefore, to avoid confusion, it is necessary to remove the existing rebuilding plans from 50 CFR 660.413(c) and (d).

Classification

NMFS is issuing this proposed rule pursuant to section 305(d) of the MSA. This proposed rule is a technical change and would update the regulations governing the salmon fishery by deleting a provision that is no longer necessary. The NMFS Assistant Administrator has determined that this proposed rule is consistent with the FMP and other applicable law, subject to further consideration after public comment.

This proposed rule has been determined to be not significant for purposes of Executive Order 12866. Pursuant to Executive Order 14192, this proposed rule is considered a deregulatory action.

NMFS has determined that a 30-day comment period for this proposed rule is appropriate to allow adequate time for public comment while also allowing for the final rule to be in effect prior to the annual preseason management process for the 2025 fishing season for ocean salmon fisheries, thereby avoiding any confusion about the management status of the Queets coho and JDF coho salmon stocks during that preseason management process. The Chief Counsel for Regulation of the Department of Commerce certified to the Chief Counsel for Advocacy of the Small Business Administration that this proposed rule, if adopted, would not have a significant economic impact on a substantial number of small entities. The factual basis for this determination is as follows.

For purposes of the Regulatory Flexibility Act (RFA) analysis, and pursuant to NMFS' December 29, 2015, final rule (80 FR 81194), NMFS' small business size standard for businesses, including their affiliates, whose primary industry is commercial fishing, is $11 million in annual gross receipts. This standard applies to all businesses classified under North American Industry Classification System (NAICS) code 11411 for commercial fishing, including all businesses classified as commercial finfish fishing (NAICS 11411), commercial shellfish fishing (NAICS 114112), and other commercial marine fishing (NAICS 114119) businesses (50 CFR 220.2; 13 CFR 121.201).

According to the Socioeconomic Assessment of the 2023 Ocean Salmon Fisheries (Chapter IV) of the Review of 2023 Ocean Salmon Fisheries Stock Assessment and Fishery Evaluation Document for the Pacific Coast Salmon Fishery Management Plan, the most recent year of complete fishing data, 2023, had 93 distinct commercial vessels land fish caught in Washington. These vessels had an average state-level ex-vessel revenue per vessel of $36,100; no vessel met the threshold ($11 million in annual gross receipts) for being a large entity. NMFS does not collect information on the number of small entities who participate in fisheries targeting Queets coho salmon and JDF coho salmon, because participants fishing for salmon generally do not know the salmon stock they are targeting. There were 66,900 ocean angler salmon trips taken on vessels on the Washington coast in 2023. These trips included both charter and private vessels. All of those charter businesses that are impacted are small entities. Because all affected entities are small, these regulation revisions are not expected to place small entities at a significant disadvantage to large entities.

Furthermore, this proposed rule would not change harvest policy or the general management approach. The rebuilding plan provision at 50 CFR 660.413(c) and (d) adopted the FMP's existing harvest control rule and management measures. Upon implementation of this proposed action to delete the rebuilding plan provisions, the FMP's harvest control rule and management measures would apply, and the control rule and management measures have not changed since the addition of the rebuilding plan provisions in 2021. Thus, this proposed rule would have no economic impact on, and would not result in a reduction in the profits of, the regulated small entities. Therefore, this proposed rule, if implemented, would not have a significant economic impact on a substantial number of small entities. As a result, an initial regulatory flexibility analysis is not required and none has been prepared.

This proposed rule contains no information collection requirements under the Paperwork Reduction Act of 1995.

Dated: March 24, 2025.
Samuel D. Rauch III,
Deputy Assistant Administrator for Regulatory Programs, National Marine Fisheries Service.

List of Subjects in 50 CFR Part 660

Fisheries, Fishing, Recording and reporting requirements.

For the reasons set out in the preamble, NMFS proposes to amend 50 CFR part 660 as follows:

PART 660—FISHERIES OFF WEST COAST STATES

1. The authority citation for part 660 continues to read as follows:

Authority: 16 U.S.C. 1801 et seq., 16 U.S.C. 773 et seq., and 16 U.S.C. 7001 et seq.

§ 660.413 [Amended]

2. Amend § 660.413 by removing paragraphs (c) and (d).

[FR Doc. 2025-05284 Filed 3-27-25; 8:45 am]

BILLING CODE 3510-22-P